OFFICE OF THE UNITED STATES TRADE REPRESENTATIVE

Notice of Request for Public Comments on the Review and Renegotiation of the United States-Israel Agreement on Trade in Agricultural Products

AGENCY: Office of the United States Trade Representative.

ACTION: Notice and Request for Comments.

SUMMARY: The Trade Policy Staff Committee (TPSC) is soliciting written comments on U.S. objectives for upcoming negotiations on the renewal of the United States-Israel Agreement on Trade in Agricultural Products (ATAP). Specifically, the TPSC is seeking comments on general negotiating objectives and product-specific requests.

DATES: Public comments are due by Noon, Wednesday, November 14, 2007.

ADDRESSES: Submissions by electronic mail should be submitted to FR0802ustr.eop.gov. Submissions by facsimile: Gloria Blue, Executive Secretary, Trade Policy Staff Committee, at (202) 395-6143. The public is strongly encouraged to submit documents electronically rather than by facsimile. (See requirements for submissions below.)

FOR FURTHER INFORMATION CONTACT: For procedural questions concerning public comments, contact Gloria Blue, Executive Secretary, TPSC, Office of the USTR, 1724 F Street, NW., Washington, DC 20508 (202) 395-3475. All other questions regarding the negotiations should be addressed to Andrew Stephens, Director for Bilateral Agricultural Affairs, Office of the USTR, (202) 395-9637.

SUPPLEMENTARY INFORMATION: The 1985 Agreement on the Establishment of a Free Trade Area between the Government of Israel and the Government of the United States of America (Israel FTA) was intended to apply, in full, to trade in all products between the two countries. However, the United States and Israel held differing interpretations as to the meaning of certain rights and obligations related to agricultural products under the Israel FTA. In the interest of achieving practical improvements in agricultural trade between the two countries, the United States and Israel in 1996 signed the Agreement on Trade in Agricultural Products (ATAP). The 1996 ATAP was an adjunct to the Israel FTA. The agreement expired and then was subsequently renewed in 2004 for a period ending on December 31, 2008.

According to the ATAP, U.S. agricultural products exported to Israel are divided into three categories: (1) Products which are exempt from tariffs, (2) products which are exempt from tariffs within certain quantities (tariff-rate quotas), and (3) products which are imported at a preferential tariff rate. Following the implementation of the 1985 Israel FTA, most Israeli agricultural products exported to the United States had duty-free access to the U.S. market. However, certain Israeli products remained subject to tariff-rate quotas. Therefore, duty-free quota allocations, in excess of U.S. WTO commitments, are the principle concessions granted to Israeli products as a result of the ATAP.

The United States and Israel have committed to initiate a review of the operation of the ATAP and to seek further improvements. In preparation, USTR is soliciting detailed written comments, including data and arguments, addressing:

(a) General and product-specific negotiating objectives for the ATAP;

(b) Economic costs and benefits to U.S. producers and exporters related to the reduction or removal of current restrictions to the Israeli agricultural market;

(c) Product-specific export interests or barriers (described by Harmonized Tariff System numbers);

(d) Detailed accounts of particular trade-restrictive measures that should be addressed in the negotiations; and,

(e) Other relevant issues, including potential environmental implications of the proposed agreement.

Written Comments

In order to facilitate prompt processing of submissions, the Office of the United States Trade Representative strongly urges and prefers electronic (e-mail) submissions in response to this notice. In the event than an e-mail submission is impossible, submissions should be made by facsimile.

Interested persons may submit written comments by Noon, Wednesday, November 14, 2007. All written comments must state clearly the position taken, describe with particularity the supporting rationale, and be in English. The first page of written comments must specify the subject matter, including, as applicable, the product(s) (with HTSUS numbers).

Persons making submissions by e-mail should use the following subject line: “United States-Israel ATAP Written Comments.” Documents should be submitted as Adobe PDF, MSWord files or Word Perfect. Supporting documentation submitted as spreadsheets are acceptable as Quattro Pro or Excel. For any document containing business confidential information submitted electronically, the file name of the business confidential version should begin with the characters “BC-” and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments will be placed in a file open to public inspection pursuant to 15 CFR 2003.5, except business confidential information submitted in accordance with 15 CFR 2003.6. Business confidential information submitted in accordance with 15 CFR 2003.6 must be clearly marked “Business Confidential” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file must be scheduled at least 48 hours in advance and may be made by calling (202) 395-6186.

Carmen Suro-Bredie,
Chair, Trade Policy Staff Committee.

[FR Doc. E7-20374 Filed 10-15-07; 8:45 am]

BILLING CODE 3190-W8-P